Title 3—

The President

Presidential Determination No. 2007-4 of November 22, 2006

Presidential Determination on Waiving Prohibition on United States Military Assistance With Respect to Comoros and Saint Kitts and Nevis

Memorandum for the Secretary of State

Consistent with the authority vested in me by section 2007 of the American Servicemembers' Protection Act of 2002 (the “Act”), title II of Public Law 107-206 (22 U.S.C. 7421 et seq.), I hereby:

• Determine that Comoros and Saint Kitts and Nevis have each entered into an agreement with the United States pursuant to Article 98 of the Rome Statute preventing the International Criminal Court from proceeding against U.S. personnel present in such countries; and

• Waive the prohibition of section 2007(a) of the Act with respect to these countries for as long as such agreements remain in force.

You are authorized and directed to report this determination to the Congress, and to arrange for its publications in the Federal Register.

THE WHITE HOUSE,

Washington, November 22, 2006.

[FR Doc. 06-9664

Filed 12-11-06; 8:45 am]

Billing code 4710-10-P